COMMISSION ON CIVIL RIGHTS

Notice of Public Meeting of the U.S. Virgin Islands Advisory Committee; Cancellation

AGENCY: Commission on Civil Rights.

ACTION: Notice; Cancellation of Meeting.

SUMMARY: The Commission on Civil Rights published a notice in the Federal Register concerning a meeting of the U.S. Virgin Islands Advisory Committee. The meeting, scheduled for Wednesday, April 23, 2025, at 12:00 p.m. ET, has been cancelled. The notice is in the Federal Register on Monday, April 7, 2025, in FR Document Number 2025-05897 on pages 14956-14957.

FOR FURTHER INFORMATION CONTACT: Sarah Villanueva, Support Services Specialist, at svillanueva@usccr.gov or (202) 769-2843.

Dated: April 11, 2025.
David Mussatt,
Supervisory Chief, Regional Programs Unit.

[FR Doc. 2025-06569 Filed 4-16-25; 8:45 am]

BILLING CODE P